ENVIRONMENTAL PROTECTION AGENCY

[FRL-7022-7]

Agency Information Collection Activities: Submission for OMB Review; Comment Request; Tax-Exempt (Dyed) Highway Diesel Fuel; Requirements for Transferors and Transferees

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Tax-exempt (Dyed) Highway Diesel Fuel; Requirements for Transferors and Transferees (40 CFR 80.29(c)), (Former Title: Fuel Quality Regs for Highway Diesel Fuel Sold in 1993 and Later Calendar Years; Interim Final Rule) (EPA ICR No. 1718.03, OMB Control No. 2060-0308, expiration date: July 31, 2001. The ICR describes the nature of the information collection and its expected burden and cost; where appropriate, it includes the actual data collection instrument.

DATES: Comments must be submitted on or before September 5, 2001.

ADDRESSES: Send comments, referencing EPA ICR No. 1718.03 and OMB Control No. 2060-0308, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-4901, by E-mail at Auby.susan@epamail.epa.gov, or download off the Internet at http://www.epa.gov/icr and refer to EPA ICR No. 1718.03. For technical questions about the ICR contact James W. Caldwell, (202) 564-9303, fax: (202) 565-2085, caldwell.jim@epa.gov.

SUPPLEMENTARY INFORMATION:

Tax-exempt (Dyed) Highway Diesel Fuel; Requirements for Transferors and Transferees, EPA ICR No. 1718.03, OMB Control No. 2060-0308, expiring July 31, 2001. This is a request for extension of a currently approved collection.

Abstract: Diesel fuel for use in motor vehicles, also known as highway diesel fuel, is subject to compositional restrictions, per 40 CFR part 80, in order to reduce emissions. Diesel fuel not intended for use in motor vehicles, also known as off-road diesel fuel, has no such restrictions. It is required to be dyed red in order to distinguish it from highway diesel fuel, and thus deter its use in motor vehicles. The Internal Revenue Service requires that highway diesel fuel which is tax-exempt contain the same red dye in order to distinguish it from taxed highway diesel fuel, and thus deter its use in vehicles which do not qualify for tax-exempt fuel. In order to distinguish off-road diesel fuel from tax-exempt highway diesel fuel, the product transfer document (PTD) for tax-exempt highway diesel fuel must indicate that the diesel fuel meets the requirements for highway diesel fuel. Typically, a code is used on the PTD to so indicate. The PTD is a necessary document produced in the normal course of business for reasons other than this requirement. The computers which generate the PTDs were programmed in 1993 to display the code for tax-exempt highway diesel fuel. Thus, there is only a very small burden because the display of the code is automatic. Transferors and transferees of tax-exempt highway diesel fuel are required to retain the PTDs for five years, which is a customary business practice. See 40 CFR 80.29(c). An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on March 19, 2001 (66 FR 15422). No comments were received.

Burden Statement: The annual public reporting and recordkeeping burden for this collection of information is estimated to average two seconds per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Transferors and transferees of tax-exempt (dyed) highway diesel fuel.

Estimated Number of Respondents: 20,000.

Frequency of Response: On occasion.

Estimated Total Annual Hour Burden: 222 hours.

Estimated Total Annualized Capital, O&M Cost Burden: 0.

Send comments on the Agency's need for this information, the accuracy of the provided burden estimates, and any suggested methods for minimizing respondent burden, including through the use of automated collection techniques to the addresses listed above. Please refer to EPA ICR Number 1718.03 and OMB Control Number 2060-0308 in any correspondence.

Dated: July 25, 2001.
Oscar Morales,
Director, Collection Strategies Division.

[FR Doc. 01-19568 Filed 8-3-01; 8:45 am]

BILLING CODE 6560-50-P